DEPARTMENT OF TRANSPORTATION

Federal Aviation Administration

14 CFR Part 39

[Docket No. FAA-2010-0865; Project Identifier 2010-SW-061-AD]

RIN 2120-AA64

Airworthiness Directives; Bell Textron Canada Limited (Type Certificate Previously Held by Bell Helicopter Textron Canada Limited)

AGENCY: Federal Aviation Administration (FAA), DOT.

ACTION: Supplemental notice of proposed rulemaking (SNPRM).

SUMMARY: The FAA is revising a notice of proposed rulemaking (NPRM) that applied to certain Bell Helicopter Textron Canada Limited (now Bell Textron Canada Limited) Model 206A, 206B, 206L, 206L-1, 206L-3, and 206L-4 helicopters. This action revises the NPRM by revising the format, rearranging certain paragraphs, converting a certain table to paragraph format, and removing certain language. The FAA is proposing this airworthiness directive (AD) to address the unsafe condition on these products. Since the NPRM was issued, a significant amount of time has elapsed requiring the FAA to reopen the comment period to allow the public a chance to comment on the proposed actions.

DATES: The FAA must receive comments on this SNPRM by June 21, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address between 9 a.m. and 5 p.m., Monday through Friday, except Federal holidays.

For service information identified in this SNPRM, contact Bell Helicopter Textron Canada Limited, 12,800 Rue de l'Avenir, Mirabel, Quebec J7J1R4; phone: 450-437-2862 or 800-363-8023; fax: (450) 433-0272; internet: https://www.bellcustomer.com. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2010-0865; or in person at Docket Operations between 9 a.m. and 5 p.m., Monday through Friday, except Federal holidays. The AD docket contains the NPRM, this SNPRM, any comments received, and other information. The address for Docket Operations is U.S. Department of Transportation, Docket Operations, M-30, West Building Ground Floor, Room W12-140, 1200 New Jersey Avenue SE, Washington, DC 20590.

FOR FURTHER INFORMATION CONTACT: Kathleen Arrigotti, Program Manager, Large Aircraft Section, International Validation Branch, Compliance & Airworthiness Division, FAA, 2200 South 216th St., Des Moines, WA 98198; phone and fax: (206) 231-3218; email: kathleen.arrigotti@faa.gov.

SUPPLEMENTARY INFORMATION:

Comments Invited

The FAA invites you to send any written relevant data, views, or arguments about this proposal. Send your comments to an address listed under ADDRESSES. Include “Docket No. FAA-2010-0865; Project Identifier 2010-SW-061-AD” at the beginning of your comments. The most helpful comments reference a specific portion of the proposal, explain the reason for any recommended change, and include supporting data. The FAA will consider all comments received by the closing date and may again revise this proposal because of those comments.

Except for Confidential Business Information (CBI) as described in the following paragraph, and other information as described in 14 CFR 11.35, the FAA will post all comments received, without change, to https://www.regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Kathleen Arrigotti, Program Manager, Large Aircraft Section, International Validation Branch, Compliance & Airworthiness Division, FAA, 2200 South 216th St., Des Moines, WA 98198; phone and fax: (206) 231-3218; email: kathleen.arrigotti@faa.gov. Any commentary that the FAA receives which is not specifically designated as CBI will be placed in the public docket for this rulemaking.

Background

The FAA issued an NPRM to amend 14 CFR part 39 by adding an AD that would apply to certain Bell Helicopter Textron Canada Limited (now Bell Textron Canada Limited) Model 206A, 206B, 206L, 206L-1, 206L-3, and 206L-4 helicopters. The NPRM published in the Federal Register on August 30, 2010 (75 FR 52914). In the NPRM, the FAA proposed to require determining if an affected part is installed (by doing a maintenance records check or inspection), and if an affected part is found, replacement with a non-affected part. The NPRM was prompted by a report that a certain disc assembly, sold as an alternate part, does not conform to the approved configuration.

Transport Canada Civil Aviation (TCCA), which is the aviation authority for Canada, issued Canadian AD CF-2010-07, dated February 24, 2010 (Canadian AD CF-2010-07), to correct an unsafe condition for certain Bell Helicopter Textron Canada Limited (now Bell Textron Canada Limited) Model 206A, 206B, 206L, 206L-1, 206L-3, and 206L-4 helicopters. TCCA advises that a certain tail rotor disc assembly, sold through Bell Helicopter Spares beginning March 2009, as an alternate, does not conform to the approved configuration. TCCA stated operating a helicopter with the affected tail rotor disc assembly could result in loss of control of the helicopter.

Accordingly, the Canadian AD requires determining if an affected part is installed, and if an affected part is found, replacement with a non-affected part.

Actions Since the NPRM Was Issued

Since the NPRM was issued, the AD format has been revised, and certain paragraphs have been rearranged. As a result, the corresponding paragraph identifiers have changed in this proposed AD (in the SNPRM), as listed in the following table:

Requirement in the proposed AD (in the NPRM) | Corresponding requirement in this proposed AD (in the SNPRM)
paragraph (f) | paragraph (g).
paragraph (f)(1) | paragraph (g)(1).
paragraph (f)(2) | paragraph (g)(2).
paragraph (f)(3) | paragraph (g)(3).
paragraph (f)(4) | paragraph (g)(4).
paragraph (f)(5) | paragraph (h).

The FAA also has removed the table following paragraph (c) of the proposed AD (in the NPRM), which identified the model and serial numbers; instead, the model and serial numbers are included in paragraphs (c)(1) through (6) of this proposed AD (in the SNPRM).

In addition, the text “no further action is required” is removed from paragraph (g)(3) of this proposed AD (in the SNPRM) as the parts installation prohibition specified in paragraph (h) of this proposed AD (in the SNPRM) also applies to helicopters accomplishing the action in paragraph (g)(3) of this proposed AD (in the SNPRM).

These changes do not affect the intent of the actions in the proposed AD (in the NPRM). However, since a significant amount of time has elapsed since the NPRM, the FAA is reopening the comment period to allow the public a chance to comment on the proposed actions.

Comments

The FAA received no comments on the NPRM or on the determination of the cost.

FAA's Determination

These helicopters have been approved by the aviation authority of Canada and are approved for operation in the United States. Pursuant to the FAA's bilateral agreement with Canada, TCCA, its technical representative, has notified the FAA of the unsafe condition described in its AD. The FAA is proposing this AD after determining the unsafe condition described previously is likely to exist or develop in other helicopters of the same type design. Certain changes described above expand the scope of the NPRM. As a result, it is necessary to reopen the comment period to provide additional opportunity for the public to comment on this SNPRM.

Related Service Information Under 1 CFR Part 51

The FAA reviewed the following service information. This service information specifies procedures to determine if an affected part is installed, and if an affected part is found, replacement with a non-affected part. These documents are distinct since they apply to different helicopter models.

• Bell Helicopter Alert Service Bulletin 206-09-123, Revision A, dated June 10, 2009.

• Bell Helicopter Alert Service Bulletin 206L-09-157, Revision A, dated June 10, 2009.

This service information is reasonably available because the interested parties have access to it through their normal course of business or by the means identified in the ADDRESSES section.

Proposed AD Requirements in This SNPRM

This proposed AD would require accomplishing the actions specified in the service information already described.

Costs of Compliance

The FAA estimates that this proposed AD affects 1,493 helicopters of U.S. registry. The FAA estimates the following costs to comply with this proposed AD:

Estimated Costs for Required Actions
Labor cost | Parts cost | Cost per product | Cost on U.S. operators
1 work-hour × $85 per hour = $85 | $303 | $388 | $579,284

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Bell Textron Canada Limited (Type Certificate Previously Held by Bell Helicopter Textron Canada Limited): Docket No. FAA-2010-0865; Project Identifier 2010-SW-061-AD.

(a) Comments Due Date

The FAA must receive comments on this airworthiness directive (AD) action by June 21, 2021.

(b) Affected ADs

None.

(c) Applicability

This AD applies to the following Bell Textron Canada Limited (type certificate previously held by Bell Helicopter Textron Canada Limited) helicopters, certificated in any category:

(1) Model 206A, serial numbers 004 through 660 inclusive, and 672 through 715 inclusive;

(2) Model 206B, all serial numbers, including those converted from Model 206A;

(3) Model 206L, serial numbers 45004 through 45153 inclusive, and 46601 through 46617 inclusive;

(4) Model 206L-1, serial numbers 45154 through 45790 inclusive;

(5) Model 206L-3, serial numbers 51001 through 51612 inclusive; and

(6) Model 206L-4, all serial numbers.

(d) Subject

Joint Aircraft Service Component (JASC) Code: 65, Tail Rotor Drive.

(e) Unsafe Condition

This AD was prompted by a report that a certain tail rotor disc assembly, sold as an alternate part, does not conform to the approved configuration. The FAA is issuing this AD to address helicopters operating with a certain tail rotor disc assembly, sold as an alternate part, that does not conform to the approved configuration, which could result in loss of control of the helicopter.

(f) Compliance

Comply with this AD within the compliance times specified, unless already done.

(g) Required Actions

Do the actions specified in paragraphs (g)(1) through (4) of this AD, in accordance with Bell Helicopter Alert Service Bulletin 206-09-123, Revision A, dated June 10, 2009; or Bell Helicopter Alert Service Bulletin 206L-09-157, Revision A, dated June 10, 2009, as applicable.

(1) Within 30 days or 100 hours time-in-service (TIS) after the effective date of this AD, whichever occurs first, review the helicopter maintenance records to determine if a disc assembly, part number (P/N) 101584-1 or -2, is installed.

(2) If, during the maintenance records review required by paragraph (g)(1) of this AD, you cannot positively determine that disc assembly P/N 101584-1 or -2 is not installed, within 30 days or 100 hours TIS after the effective date of this AD, whichever occurs first, inspect the tail rotor driveshaft system to determine if disc assembly P/N 101584-1 or -2 is installed.

(3) If, during the maintenance records review required by paragraph (g)(1) of the this AD or during the inspection required by paragraph (g)(2) of this AD, you can positively determine that a disc assembly P/N 101584-1 or -2 is not installed, before further flight, make an entry in the log book showing compliance with this AD.

(4) If, during the maintenance records review required by paragraph (g)(1) of this AD or during the inspection required by paragraph (g)(2) of this AD, you can positively determine that a disc assembly P/N 101584-1 or -2 is installed, within 30 days or 100 hours TIS after the effective date of this AD, whichever occurs first, replace disc assembly P/N 101584-1 or -2 with disc assembly P/N 32721-1.

(h) Parts Installation Prohibition

As of the effective date of this AD, do not install disc assembly P/N 101584-1 or -2.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. Send your proposal to: Manager, International Validation Branch, FAA, 10101 Hillwood Pkwy., Fort Worth, TX 76177; telephone (817) 222-5110; email 9-AVS-AIR-730-AMOC@faa.gov. Information may be emailed to: 9-AVS-AIR-730-AMOC@faa.gov.

(2) Before using any approved AMOC, notify your appropriate principal inspector, or lacking a principal inspector, the manager of the local flight standards district office/certificate holding district office.

(j) Related Information

(1) For more information about this AD, contact Kathleen Arrigotti, Program Manager, Large Aircraft Section, International Validation Branch, Compliance & Airworthiness Division, FAA, 2200 South 216th St., Des Moines, WA 98198; phone and fax: (206) 231-3218; email: kathleen.arrigotti@faa.gov.

(2) For service information identified in this AD, contact Bell Helicopter Textron Canada Limited, 12,800 Rue de l'Avenir, Mirabel, Quebec J7J1R4; phone: 450-437-2862 or 800-363-8023; fax: (450) 433-0272; internet: https://www.bellcustomer.com. You may view this referenced service information at the FAA, Office of the Regional Counsel, Southwest Region, 10101 Hillwood Pkwy., Room 6N-321, Fort Worth, TX 76177. For information on the availability of this material at the FAA, call (817) 222-5110.

(3) The subject of this AD is addressed in Transport Canada Civil Aviation (TCCA) Canadian AD CF-2010-07, dated February 24, 2010. You may view the TCCA AD on the internet at https://www.regulations.gov in the AD Docket.

Issued on April 23, 2021.
Lance T. Gant,
Director, Compliance & Airworthiness Division, Aircraft Certification Service.

[FR Doc. 2021-08922 Filed 5-6-21; 8:45 am]

BILLING CODE 4910-13-P